FEDERAL COMMUNICATIONS COMMISSION

47 CFR Part 73

[DA 03-490, MB Docket No. 02-348, RM-10455]

Television Broadcast Service; Presque Isle, ME

AGENCY: Federal Communications Commission.

ACTION: Final rule.

SUMMARY: The Commission, at the request of Western Broadcasting Company, LLC, substitutes channel 47 for channel 62 at Presque Isle, Maine. See 67 FR 70195, November 21, 2002. TV channel 47 can be allotted to Presque Isle in compliance with the principle community coverage requirements of Section 73.610 with a zero offset. The coordinates for channel 47 at Presque Isle are 46-45-12 N. and 68-10-28 W. Since the community of Presque Isle is located within 400 kilometers of the U.S.-Canadian border, concurrence from the Canadian has been obtained for this allotment. With this action, this proceeding is terminated.

DATES: Effective April 14, 2003.

FOR FURTHER INFORMATION CONTACT: Pam Blumenthal, Media Bureau, (202) 418-1600.

SUPPLEMENTARY INFORMATION: This is a synopsis of the Commission's report and order, MB Docket No. 02-348, adopted February 21, 2003, and released February 27, 2003. The full text of this document is available for public inspection and copying during regular business hours in the FCC Reference Information Center, Portals II, 445 12th Street, SW., Room CY-A257, Washington, DC 20554. This document may also be purchased from the Commission's duplicating contractor, Qualex International, Portals II, 445 12th Street, SW., Room CY-B402, Washington, DC 20554, telephone 202-863-2893, facsimile 202-863-2898, or via-e-mail qualexint@aol.com.

List of Subjects in 47 CFR Part 73

Television broadcasting.

Part 73 of title 47 of the Code of Federal Regulations is amended as follows:

PART 73—[AMENDED]

1. The authority citation for part 73 continues to read as follows:

Authority: 47 U.S.C. 154, 303, 334 and 336.

§ 73.606 [Amended]

2. Section 73.606(b), the Table of Television Allotments under Maine, is amended by removing TV channel 62+ and adding TV channel 47 at Presque Isle.

Federal Communications Commission.
Barbara A. Kreisman,
Chief, Video Division, Media Bureau.

[FR Doc. 03-5242 Filed 3-5-03; 8:45 am]

BILLING CODE 6712-01-P